DEPARTMENT OF THE INTERIOR

Bureau of Land Management

[212.LLIDT02000.L12200000.JX0000.241A0.4500154358]

Notice of Availability of the Cedar Fields Proposed Resource Management Plan Amendment and Final Environmental Impact Statement for the Monument Resource Management Plan, Idaho

AGENCY: Bureau of Land Management, Interior.

ACTION: Notice of availability.

SUMMARY: In compliance with the National Environmental Policy Act of 1969, as amended (NEPA), and the Federal Land Policy and Management Act of 1976, as amended, the Bureau of Land Management (BLM) has prepared the Cedar Fields Proposed Resource Management Plan (RMP) Amendment and Final Environmental Impact Statement (EIS) for the Monument Resource Management Plan, and by this notice is announcing the start of a 30-day protest period of the Proposed RMP Amendment.

DATES: This notice announces the beginning of a 30-day protest period to the BLM on the Proposed RMP Amendment. Protests must be postmarked or electronically submitted on the BLM's ePlanning site by November 25, 2022.

ADDRESSES: The Proposed RMP Amendment/Final EIS is available on the BLM ePlanning project website at https://eplanning.blm.gov/eplanning-ui/project/36660/510. Documents pertinent to this proposal may be examined online at https://eplanning.blm.gov/eplanning-ui/project/36660/510 and at the Burley Field Office 15 East 200 South, Burley ID, 83318.

Instructions for filing a protest with the BLM for the Cedar Fields Proposed RMP Amendment and Final EIS for the Monument RMP can be found at: https://www.blm.gov/programs/planning-and-nepa/public-participation/filing-a-plan-protest and at 43 CFR 1610.5-2.

FOR FURTHER INFORMATION CONTACT: Terrell Dobis, Planning and Environmental Coordinator, Twin Falls District Office, telephone (208) 735-2075; address BLM Twin Falls District Office, 2878 Addison Ave. E, Twin Falls, ID 83301; email tdobis@blm.gov. Individuals in the United States who are deaf, deaf, blind, hard of hearing, or have a speech disability may dial 711 (TTY, TDD, or TeleBraille) to access telecommunications relay services for contacting Ms. Dobis. Individuals outside the United States should use the relay services offered within their country to make international calls to the point-of-contact in the United States.

SUPPLEMENTARY INFORMATION: The Cedar Fields Proposed RMP Amendment would change the existing Monument RMP.

The Cedar Fields Proposed RMP Amendment/Final EIS analyzes management options for the BLM-managed portions of the Cedar Fields Project Area (Project Area) that were not evaluated in the EIS for the 1985 Monument RMP. Its purpose is to consider a range of reasonable alternatives for managing recreation use while providing cultural resource protection on BLM-managed lands and adjacent U.S. Bureau of Reclamation-managed lands in the Project Area. This will be done in a manner that maintains the values identified in the 1985 Monument RMP and the 1999 American Falls Archaeological District (AFAD) listing on the National Register of Historic Places. The five alternatives range from reducing the area available for rock climbing and off-highway vehicle use to limiting the type of rock climbing allowed in the AFAD.

The BLM initiated the land use planning process on August 23, 2011, through a Notice of Intent published in the Federal Register (76 FR 52687), which notified the public of a formal scoping period and solicited public participation in the planning process. The BLM held three scoping meetings in September and October 2011 in Pocatello, Burley, and American Falls, Idaho. Based on public input gathered during initial scoping and from stakeholders throughout the process, the BLM formulated the five alternatives considered and analyzed in the Cedar Fields Proposed RMP Amendment/Final EIS.

Comments received on the Cedar Fields Draft RMP Amendment/Draft EIS were considered and incorporated as appropriate into the Proposed RMP Amendment/Final EIS. Public comments resulted in the addition of clarifying text but did not significantly change proposed decisions.

Protest of the Proposed RMP Amendment

BLM planning regulations state that any person who participated in the preparation of the RMP and has an interest that will or might be adversely affected by approval of the Proposed RMP Amendment may protest its approval to the BLM. Protest on the Proposed RMP Amendment constitutes the final opportunity for administrative review of the proposed land use planning decisions prior to the BLM adopting an approved RMP Amendment. Instructions for filing a protest with the BLM regarding the Proposed RMP Amendment may be found online (see ADDRESSES). All protests must be in writing and mailed to the appropriate address or submitted electronically through the BLM ePlanning project website (see ADDRESSES). Protests submitted electronically by any means other than the ePlanning project website or by fax will be invalid unless a hard copy of the protest is also submitted. The BLM will render a written decision on each protest. The protest decision shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2; 43 CFR 1610.5)

Karen Kelleher,
BLM Idaho State Director.

[FR Doc. 2022-23241 Filed 10-25-22; 8:45 am]

BILLING CODE 4310-GG-P